FEDERAL ELECTION COMMISSION

Sunshine Act Notice

AGENCY: Federal Election Commission.

DATE AND TIME: Wednesday, June 15, 2011 at 10 a.m.

PLACE: 999 E Street, NW., Washington, DC (Ninth Floor).

STATUS: This meeting will be open to the public.

Items to be Discussed:

Correction and Approval of the Minutes for the Meeting of May 26, 2011.

Draft Notice of Proposed Rulemaking on Independent Expenditures and Electioneering Communications by Corporations and Labor Organizations.

Draft Notice of Availability for Rulemaking Petition by James Madison Center for Free Speech.

Draft Notice of Availability for Rulemaking Petition by Representative Chris Van Hollen.

Draft Advisory Opinion 2011-08: American Society of Anesthesiologists.

Draft Advisory Opinion 2011-09: Facebook.

Draft Advisory Opinion 2011-10: POET, LLC, POET PAC, and Sioux River Ethanol, LLC (d/b/a POET Biorefining-Hudson).

Audit Division Recommendation Memorandum on the United Association Political Education Committee (UAPEC) (A09-27).

Future Meeting Dates.

Management and Administrative Matters.

Individuals who plan to attend and require special assistance, such as sign language interpretation or other reasonable accommodations, should contact Shawn Woodhead Werth, Commission Secretary and Clerk, at (202) 694-1040, at least 72 hours prior to the hearing date.

PERSON TO CONTACT FOR INFORMATION: Judith Ingram, Press Officer, Telephone: (202) 694-1220.

Shawn Woodhead Werth,
Secretary and Clerk of the Commission.

[FR Doc. 2011-14583 Filed 6-8-11; 4:15 pm]

BILLING CODE 6715-01-M